DEPARTMENT OF STATE

[Public Notice: 12714]

Updating Cuba Restricted List

SUMMARY: The Department of State is adding seven Cuban military-controlled hotels to the List of Restricted Entities and Sub entities Associated With Cuba (Cuba Restricted List or CRL) identifying entities and sub entities under the control of, or acting for or on behalf of, the Cuban military, intelligence, or security services or personnel with which direct financial transactions would disproportionately benefit such services or personnel at the expense of the Cuban people or private enterprise in Cuba. The Cuban Assets Control Regulations generally prohibit a person subject to U.S. jurisdiction from having direct financial transactions with the entities and sub entities on the CRL. The Department of Commerce's Bureau of Industry and Security generally will deny applications to export or reexport items for use by entities or sub entities on the CRL.

DATES: Effective July 14, 2025.

FOR FURTHER INFORMATION CONTACT: Robert Haas, Office of the Coordinator for Cuban Affairs, tel.: 771-204-7384, WHA-CCAEconomicUnit@state.gov, Department of State, Washington, DC 20520.

SUPPLEMENTARY INFORMATION:

Background

On June 16, 2017, the President signed National Security Presidential Memorandum 5 (NSPM-5) on Strengthening the Policy of the United States Toward Cuba. As directed by NSPM-5, on November 9, 2017, the Department of the Treasury's Office of Foreign Assets Control (OFAC) published a final rule in the Federal Register amending the CACR, 31 CFR part 515, and the Department of Commerce's Bureau of Industry and Security (BIS) published a final rule in the Federal Register amending, among other sections, the section of the Export Administration Regulations (EAR) regarding Cuba, 15 CFR 746.2. The regulatory amendment to the CACR added § 515.209, which generally prohibits direct financial transactions with certain entities and sub entities identified on the State Department's CRL. The regulatory amendment to 15 CFR 746.2 notes BIS will generally deny applications to export or re-export items for use by entities or sub entities identified on the CRL.

The State Department, on behalf of the Secretary of State, is now updating the CRL, as published below and available on the State Department's website: (https://www.state.gov/cuba-sanctions/cuba-restricted-list/).

This update includes seven additional entries and is re-organized by province for ease of accessibility to the public. The State Department continues to update the CRL periodically.

Electronic Availability

This document and additional information concerning the CRL are available from the Department of State's website (https://www.state.gov/cuba-sanctions/cuba-restricted-list/).

List of Restricted Entities and Subentities Associated With Cuba as of July 14, 2025

List of Restricted Entities and Subentities Associated With Cuba effective July 14, 2025

Below is the U.S. Department of State's “Cuba Restricted List” of entities and sub entities with which the Cuban Assets Control Regulations (31 CFR 515.209) generally prohibit direct financial transactions. These entities are under the control of, or acting for or on behalf of, the Cuban military, intelligence, or security services or personnel with which direct financial transactions would disproportionately benefit such services or personnel at the expense of the Cuban people or private enterprise in Cuba. All entities and sub entities were listed effective February 6, 2025, unless otherwise indicated.

*** Entities or sub entities owned or controlled by another entity or sub entity on this list are not treated as restricted unless also specified by name on the list.***

*** Activities in parentheticals are intended to aid in identification but are only representative. All activities of listed entities and sub-entities are subject to the applicable prohibitions.***

Ministries

MINFAR—Ministerio de las Fuerzas Armadas Revolucionarias

MININT—Ministerio del Interior

Holding Companies

CIMEX—Corporación CIMEX S.A.

Compañía Turística Habaguanex S.A.

GAESA—Grupo de Administración Empresarial S.A.

Gaviota—Grupo de Turismo Gaviota

UIM—Unión de Industria Militar

Hotels in Pinar del Rio Province

Hotel Villa Cabo de San Antonio

Hotel Villa Maria La Gorda y Centro Internacional de Buceo

Hotels Artemisa Province

Hostal Los Helechos

Hotels in La Habana Province

Aparthotel Montehabana

Grand Aston La Habana

Gran Hotel Bristol Kempinski

Gran Hotel Manzana Kempinski

H10 Habana Panorama

Hostal Valencia

Hotel Ambos Mundos

Hotel Armadores de Santander

Hotel Beltrán de Santa Cruz

Hotel Conde de Villanueva

Hotel del Tejadillo

Hotel el Bosque

Hotel el Comendador

Hotel el Mesón de la Flota

Hotel Florida

Hotel Habana 612

Hotel Kohly

Hotel Los Frailes

Hotel Marqués de Prado Ameno

Hotel Marqués de Cardenas de Montehermoso

Hotel Palacio Cueto

Hotel Palacio del Marqués de San Felipe y Santiago de Bejucal

Hotel Palacio O'Farrill

Hotel Park View

Hotel Raquel

Hotel Regis

Hotel San Miguel

Hotel Telégrafo

Hotel Terral

Iberostar Grand Packard Hotel

Iberostar Selection La Habana

also “Torre K”

INNSiDE Habana Catedral

Memories Miramar Havana

Memories Miramar Montehabana

SO/Havana Paseo del Prado

Hotel Santa Isabel

Hotels in Matanzas Province

Blau Marina Varadero Resort

also Fiesta Americana Punta Varadero

Also, Fiesta Club Adults Only

Grand Aston Varadero Resort

Grand Memories Varadero

Hotel Las Nubes

Hotel Oasis

Iberostar Bella Vista

Iberostar Laguna Azul

Iberostar Playa Alameda

Meliá Marina Varadero

Meliá Peninsula Varadero

Memories Varadero

Naviti Varadero

Ocean Varadero El Patriarca

Ocean Vista Azul

Paradisus Princesa del Mar

Paradisus Varadero

Sol Sirenas Coral

Hotel Meliá Marina Varadero Apartments

Hotel El Caney Varadero

Varadero Sol Caribe

Hotels in Villa Clara Province

Cayo Santa Maria

Angsana Cayo Santa María

Dhawa Cayo Santa María

Golden Tulip Aguas Claras

also Gran Muthu Cayo Santa María

Hotel Cayo Santa María

Hotel Playa Cayo Santa María

Meliá Buenavista

Meliá Cayo Santa María

Meliá Las Dunas

Memories Azul

also Memories Paraíso

Ocean Casa del Mar

also Roc Casa del Mar

Royalton Cayo Santa María

Sercotel Experience Cayo Santa María

Sol Cayo Santa María

Starfish Cayo Santa María

Warwick Cayo Santa María

also Labranda Cayo Santa María Hotel

Paradisus Los Cayos

Valentín Perla Blanca

Cayo Las Brujas

Grand Aston Cayo Las Brujas Beach Resort & Spa

Las Salinas Plana & Spa

La Salina Noreste

La Salina Suroeste

Villa Las Brujas

Cayo Los Ensenachos

Iberostar Ensenachos

Topes de Collantes

Kurhotel Escambray

Los Helechos

Villa Caburni

Hotels in Ciego de Avila Province

Cayo Coco

Hotel Playa Coco Plus

Meliá Jardines del Rey

Memories Caribe

Memories Flamenco

Pestana Cayo Coco

also Hotel Playa Paraiso

Cayo Guillermo

Cayo Guillermo Resort Kempinski

Grand Muthu Cayo Guillermo

Gran Muthu Imperial Hotel

Gran Muthu Rainbow Hotel

Iberostar Playa Pilar

Hotels in Holguín Province

Blau Costa Verde Beach & Resort

also Fiesta Americana Holguín Costa Verde

Hotel Playa Costa Verde

Hotel Playa Pesquero

Memories Holguín

Paradisus Río de Oro Resort & Spa

Playa Costa Verde

Playa Pesquero Premium Service

Sol Rio de Luna y Mares

Sol Turquesa Beach

Villa Cayo Naranjo

Villa Cayo Saetia

Villa Pinares de Mayari

Hotels in Santiago de Cuba Province

Villa Gaviota Santiago

Hotels in Guantanamo Province

Hostal 1511

Hostal La Habanera

Hostal La Rusa

Hostal Rio Miel

Hotel El Castillo

Hotel Porto Santo

Villa Maguana

Tourist Agencies

Crucero del Sol

Gaviota Tours

Marinas

Marina Gaviota Cabo de San Antonio (Pinar del Rio)

Marina Gaviota Cayo Coco (Jardines del Rey)

Marina Gaviota Las Brujas (Cayos de Villa Clara)

Marina Gaviota Puerto Vita (Holguín)

Marina Gaviota Varadero (Varadero)

Stores in Old Havana

Casa del Abanico

Colección Habana

Florería Jardín Wagner

Joyería Coral Negro—Additional locations throughout Cuba

La Casa del Regalo

San Ignacio 415

Soldadito de Plomo

Tienda El Navegante

Tienda Muñecos de Leyenda

Tienda Museo El Reloj Cuervo y Sobrinos

Entities Directly Serving the Defense and Security Sectors

ACERPROT—Agencia de Certificación y Consultoría de Seguridad y Protección alias Empresa de Certificación de Sistemas de Seguridad y Protección

AGROMIN—Grupo Empresarial Agropecuario del Ministerio del Interior

APCI—Agencia de Protección Contra Incendios

CAHOMA—Empresa Militar Industrial Comandante Ernesto Che Guevara

Casa Editorial Verde Olivo

CASEG—Empresa Militar Industrial Transporte Occidente

CID NAV—Centro de Investigación y Desarrollo Naval

CIDAI—Centro de Investigación y Desarrollo de Armamento de Infantería

CIDAO—Centro de Investigación y Desarrollo del Armamento de Artillería e Instrumentos Ópticos y Ópticos Electrónicos

CORCEL—Empresa Militar Industrial Emilio Barcenas Pier

CUBAGRO—Empresa Comercializadora y Exportadora de Productos Agropecuarios y Agroindustriales

DATYS—Empresa Para El Desarrollo De Aplicaciones, Tecnologías Y Sistemas

DCM TRANS—Centro de Investigación y Desarrollo del Transporte

DEGOR—Empresa Militar Industrial Desembarco Del Granma

DSE—Departamento de Seguridad del Estado

Editorial Capitán San Luis

EMIAT—Empresa Importadora Exportadora de Abastecimientos Técnicos

Empresa Militar Industrial Astilleros Astimar

Empresa Militar Industrial Astilleros Centro

Empresa Militar Industrial Yuri Gagarin

ETASE—Empresa de Transporte y Aseguramiento

Ferretería TRASVAL

GELCOM—Centro de Investigación y Desarrollo Grito de Baire

Impresos de Seguridad

MECATRONICS—Centro de Investigación y Desarrollo de Electrónica y Mecánica

NAZCA—Empresa Militar Industrial Granma

OIBS—Organización Integración para el Bienestar Social

PLAMEC—Empresa Militar Industrial Ignacio Agramonte

PNR—Policía Nacional Revolucionaria

PROVARI—Empresa de Producciones Varias

SEPSA—Servicios Especializados de Protección

SERTOD—Servicios de Telecomunicaciones a los Órganos de la Defensa

SIMPRO—Centro de Investigación y Desarrollo de Simuladores

TECAL—Empresa de Tecnologías Alternativas

TECNOPRO—Empresa Militar Industrial “G.B. Francisco Cruz Bourzac”

TECNOTEX—Empresa Cubana Exportadora e Importadora de Servicios, Artículos y Productos Técnicos Especializados

TGF—Tropas de Guardafronteras

UAM—Unión Agropecuaria Militar

ULAEX—Unión Latinoamericana de Explosivos

XETID—Empresa de Tecnologías de la Información Para La Defensa

YABO—Empresa Militar Industrial Coronel Francisco Aguiar Rodríguez

Additional Sub Entities of CIMEX

ADESA/ASAT—Agencia Servicios Aduanales (Customs Services)

American International Services (Remittances)

alias AIS Remesas

Cachito (Beverage Manufacturer)

Contex (Fashion)

Datacimex

ECUSE—Empresa Cubana de Servicios

FINCIMEX

Inmobiliaria CIMEX (Real Estate)

Inversiones CIMEX

Jupiña (Beverage Manufacturer)

La Maisón (Fashion)

Najita (Beverage Manufacturer)

Orbit, S.A. (Remittances) Effective March 10, 2025

Publicitaria Imagen (Advertising)

Residencial Tarara S.A. (Real Estate/Property Rental)

Ron Caney (Rum Production)

Ron Varadero (Rum Production)

Telecable (Satellite Television)

Tropicola (Beverage Manufacturer)

Zona Especializada de Logística y Comercio (ZELCOM)

Additional Sub Entities of GAESA

Almacenes Universales (AUSA)

ANTEX—Corporación Antillana Exportadora

Banco Financiero Internacional S.A. (BFI).

Compañía Inmobiliaria Aurea S.A.

Dirección Integrada Proyecto Mariel (DIP)

Empresa Inmobiliaria Almest (Real Estate)

GRAFOS (Advertising)

RAFIN S.A. (Financial Services)

Sociedad Mercantin Inmobiliaria Caribe (Real Estate)

TECNOIMPORT

Terminal de Contenedores de la Habana (TCH)

Terminal de Contenedores de Mariel, S.A.

UCM—Unión de Construcciones Militares

Zona Especial de Desarrollo Mariel (ZEDM)

Zona Especial de Desarrollo y Actividades Logísticas (ZEDAL)

Aerogaviota

Additional Sub Entities of Gaviota

AT Comercial

Varadero Diving Center

Gaviota Las Molas International Diving Center

Cayo Naranjo Dolphinarium

Diving Center—Marina Gaviota

Gaviota Hoteles Cuba

Hoteles Habaguanex

Hoteles Playa Gaviota

Manzana de Gomez

Marinas Gaviota Cuba

PhotoService

Plaza La Estrella

Plaza Las Dunas

Plaza Las Morlas

Plaza Las Salinas

Plaza Las Terrazas del Atardecer

Plaza Los Flamencos

Plaza Pesquero

Producciones TRIMAGEN S.A. (Tiendas Trimagen)

Additional Sub Entities of Habaguanex

Sociedad Mercantil Cubana Inmobiliaria Fenix S.A. (Real Estate)

Michael G. Kozak,
Senior Bureau Official, Bureau of Western Hemisphere Affairs, Department of State.

[FR Doc. 2025-13149 Filed 7-11-25; 8:45 am]

BILLING CODE 4710-29-P